DEPARTMENT OF COMMERCE

National Oceanic and Atmospheric Administration

50 CFR Part 622

[Docket No. 140501394-5279-02]

RTID 0648-XF042

Fisheries of the South Atlantic; Commercial Closure for Blueline Tilefish in the South Atlantic

AGENCY: National Marine Fisheries Service (NMFS), National Oceanic and Atmospheric Administration (NOAA), Commerce.

ACTION: Temporary rule; closure.

SUMMARY: NMFS implements an accountability measure for the commercial harvest of blueline tilefish in the exclusive economic zone (EEZ) of the South Atlantic. NMFS estimates that commercial landings of blueline tilefish will soon reach the commercial annual catch limit (ACL) for the 2025 fishing year. Accordingly, NMFS closes the commercial sector for the harvest of blueline tilefish in the South Atlantic EEZ to protect the blueline tilefish resource from overfishing.

DATES: This temporary rule is effective from July 23 through December 31, 2025.

FOR FURTHER INFORMATION CONTACT: Mary Vara, NMFS Southeast Regional Office, telephone: 727-824-5305, email: mary.vara@noaa.gov.

SUPPLEMENTARY INFORMATION: The snapper-grouper fishery of the South Atlantic includes blueline tilefish and is managed under the Fishery Management Plan for the Snapper-Grouper Fishery of the South Atlantic Region (FMP). The FMP is implemented by NMFS under the authority of the Magnuson-Stevens Fishery Conservation and Management Act (Magnuson-Stevens Act) by regulations at 50 CFR part 622. All weights in this temporary rule are given in round weight.

Regulations at 50 CFR 622.193(z)(1)(i) specify the commercial ACL and in-season accountability measure for blueline tilefish in the South Atlantic. The commercial ACL is 117,148 pounds or 53,137 kilograms. NMFS is required to close the commercial harvest of blueline tilefish when NMFS projects commercial landings will reach or have reached the sector ACL. NMFS estimates that commercial landings of blueline tilefish for the 2025 fishing year will reach the commercial ACL by July 23. Accordingly, the commercial sector harvest of South Atlantic blueline tilefish is closed from July 23 through December 31, 2025.

During the commercial closure, all sale or purchase of blueline tilefish is prohibited. Because the harvest of blueline tilefish by the recreational sector is also closed for the rest of 2025 (90 FR 20809, May 16, 2025), during this commercial closure all harvest and possession of blueline tilefish in or from the South Atlantic EEZ is also prohibited through the end of 2025. The recreational bag and possession limits of zero blueline tilefish during the remainder of 2025 apply in state or Federal waters of the South Atlantic on a vessel for which NMFS has issued a valid commercial or charter vessel/headboat permit for South Atlantic snapper-grouper [50 CFR 622.193(z)(1)(i)].

Classification

NMFS issues this action pursuant to section 305(d) of the Magnuson-Stevens Act. This action is required by 50 CFR 622.193(z)(1)(i), which was issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the regulations associated with the closure of the blueline tilefish commercial sector at 50 CFR 622.193(z)(1)(i) have already been subject to notice and public comment, and all that remains is to notify the public of the closure. Prior notice and opportunity for public comment are contrary to the public interest because there is a need to immediately implement this action to protect blueline tilefish, because the capacity of the fishing fleet allows for rapid harvest of the commercial ACL. Prior notice and opportunity for public comment would require time and would potentially result in a harvest well in excess of the established commercial ACL.

For the reasons already stated, there is also good cause to waive the 30-day delay in the effectiveness of this action under 5 U.S.C. 553(d)(3).

Authority: 16 U.S.C. 1801 et seq.

Dated: July 17, 2025.
Kelly Denit,
Director, Office of Sustainable Fisheries, National Marine Fisheries Service.

[FR Doc. 2025-13670 Filed 7-17-25; 4:15 pm]

BILLING CODE 3510-22-P